DEPARTMENT OF TRANSPORTATION

Surface Transportation Board

[Docket No. FD 35814]

Pacific Harbor Line, Inc.—Operation Exemption—Union Pacific Railroad Company

Pacific Harbor Line, Inc. (PHL), a Class III rail carrier, has filed a verified notice of exemption under 49 CFR 1150.41 to operate, pursuant to a lease agreement, approximately 5.75 miles of track owned by the City of Los Angeles, Cal., acting by and through its Board of Harbor Commissioners (POLA), and the City of Long Beach, Cal., acting by and through its Board of Harbor Commissioners (POLB), and over which Union Pacific Railroad Company (UP) currently operates. Specifically, the 5.75 miles of rail line consists of: (1) approximately 5.5 miles extending from milepost 10.6 (CP Compton) to milepost 16.1 (CP West Thenard), known as the Rail Corridor Portion; and (2) an industrial lead (no known mileposts), known as the Drill Track Portion, extending less than a quarter mile in length and located on the west side of the Rail Corridor Portion in Los Angeles County, Cal. (the Subject Track).

This transaction is related to a concurrently filed verified notice of exemption in Pacific Harbor Line, Inc.—Lease and Operation Exemption—Union Pacific Railroad Company, Docket No. FD 35789, wherein PHL seeks Board approval to lease and operate approximately 30,820 feet of rail line, known as the Santa Ana Bypass Track, extending from milepost 21.7 at CP Compton to milepost 15.9 at Firestone Park in Los Angeles County, Cal.

According to PHL, the proposed grant of authority to operate over the Subject Track is necessary because it will allow PHL to access a line of railroad it is seeking to lease and operate in its verified notice of exemption filed in Docket No. FD 35789. PHL states that, pursuant to an agreement among themselves, POLA, POLB, and the Alameda Corridor Transportation Authority (ACTA), have consented to UP's grant of certain operating rights to PHL over the Subject Track.

PHL states that the agreement between PHL and UP does not contain any provision that may limit future interchange of traffic with any third-party connecting carrier.

PHL intends to consummate the proposed transaction 30 days or more after the exemption was filed (May 7, 2014), or 60 days or more after filing its certification with the Board pursuant to 49 CFR 1150.42(e).

PHL certifies that its projected annual revenues as a result of this transaction will not result in the creation of a Class II or Class I rail carrier. Because PHL's projected annual revenues will exceed $5 million, PHL certified to the Board on April 30, 2014, that it had complied with the requirements of 49 CFR 1150.32(e) by providing notice to employees and their labor unions on the affected 5.75-mile line. Under 49 CFR 1150.32(e), this exemption cannot become effective until 60 days after the date notice was provided, which would be June 29, 2014.

If the verified notice contains false or misleading information, the exemption is void ab initio. Petitions to revoke the exemption under 49 U.S.C. 10502(d) may be filed at any time. The filing of a petition to revoke will not automatically stay the effectiveness of the exemption. Petitions to stay must be filed no later than June 20, 2014 (at least 7 days before the exemption becomes effective).

An original and 10 copies of all pleadings, referring to Docket No. FD 35814, must be filed with the Surface Transportation Board, 395 E Street, SW., Washington, DC 20423-0001. In addition, a copy of each pleading must be served on Rose-Michele Nardi, Transport Counsel PC, 1701 Pennsylvania Avenue NW., Suite 300, Washington, DC 20006.

Board decisions and notices are available on our Web site at “WWW.STB.DOT.GOV.”

Decided: May 19, 2014.
By the Board, Rachel D. Campbell, Director, Office of Proceedings.
Jeffrey Herzig,
Clearance Clerk.

[FR Doc. 2014-12006 Filed 5-22-14; 8:45 am]

BILLING CODE 4915-01-P